DEPARTMENT OF ENERGY

Federal Energy Regulatory Commission

[Docket No. RP96-217-001]

Great Lakes Gas Transmission Limited Partnership; Notice of Proposed Changes in FERC Gas Tariff

June 21, 2001.

Take notice that on June 15, 2001, Great Lakes Gas Transmission Limited Partnership (Great Lakes) tendered for filing as part of its FERC Gas Tariff, Second Revised Volume No. 1, the following with an effective date of June 1, 1996:

Substitute First Revised Sheet No. 70

Great Lakes states that this tariff sheet is being filed to correct a pagination error that occurred when reserving a range of sheets for future use in an earlier tariff filing. As a result of that error, the electronic Great Lakes tariff includes the reserved sheets as currently effective, with outdated text. The instant filing will resolve any inconsistencies in Great Lakes' electronic tariff, and it will conform the affected sheets to the Commission's pagination requirements.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-16059 Filed 6-26-01; 8:45 am]

BILLING CODE 6717-01-M